DEPARTMENT OF THE INTERIOR

Bureau of Indian Affairs

Proclaiming Certain Lands as Reservation for the Snoqualmie Indian Tribe of Washington

AGENCY: Bureau of Indian Affairs, Interior.

ACTION: Notice of reservation proclamation.

SUMMARY: This notice informs the public that the Principal Deputy Assistant Secretary—Indian Affairs proclaimed approximately 55.84 acres, more or less, as the Snoqualmie Indian Reservation for the Snoqualmie Tribe of Indians of Washington on October 20, 2006.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This notice is published in the exercise of authority delegated by the Secretary of the Interior to the Principal Deputy Assistant Secretary—Indian Affairs by part 209 of the Departmental Manual.

A proclamation was issued according to the Act of June 18, 1934 (48 Stat. 986; 25 U.S.C. 467), for the land described below. The land was proclaimed to be the Snoqualmie Indian Reservation for the exclusive use of Indians on that reservation who are entitled to reside at the reservation by enrollment or tribal membership.

Snoqualmie Indian Reservation, King County, Washington

Lot 1, Block 3 of the unrecorded plat of Si-View acre tracts, more particularly described as follows:

Beginning at a point on the south line of the Northwest quarter of Section 31, Township 24 North, Range 8 East, W.M., in King County, Washington, 750.75 feet South 88°51′ll″ West of the southeast corner of said Northwest quarter; thence South 88°51′11″ West 660.36 feet; thence North 3°02′25″ West 308.18 feet; thence North 86°57′35″ East 660.0 feet to the west line of a 60.0 foot street, thence South 3°02′25″ East along said street 330.0 feet to the point of beginning;

Except that Portion of Lot 1, in Block 3 of the unrecorded plat of Si-View acre tracts, in Section 31, Township 24 North, Range 8 East, W.M., in King County, Washington, described as follows: Beginning at the northeast corner of the above described Lot 1; thence South 86°57′35″ West a distance of 311.14 feet along the north boundary of said Lot 1; thence South 3°02′25″ East a distance of 140.00 feet; thence North 86°57′35″ East a distance of 311.14 feet to the east boundary line of said Lot 1; thence North 3°02′25″ West a distance of 140.00 feet along the east boundary of said Lot 1 to the point of beginning.

and

All of Government Lot 3 and that portion of Government Lot 4, lying northerly of the north margin of SR 90 (State Highway Number 2); Section 31, Township 24 N., Range 8 East, W.M., King County, Washington.

Containing a total of 55.840 acres more or less.

The above-described lands contain a total of 55.840 acres, more or less, which are subject to all valid rights, reservations, rights-of-way, and easements of record.

This proclamation does not affect title to the land described above, nor does it affect any valid existing easements for public roads and highways, public utilities and for railroads and pipelines and any other rights-of-way or reservations of record.

Dated: October 20, 2006.
Michael D. Olsen,
Principal Deputy Assistant Secretary—Indian Affairs.

[FR Doc. E6-18184 Filed 10-27-06; 8:45 am]

BILLING CODE 4310-W7-P